DEPARTMENT OF ENERGY

Federal Energy Regulatory Commission

[Docket No. RT01-34-000]

Southwest Power Pool, Inc.; Notice of Filing

October 24, 2000.

Take notice that on October 20, 2000, Southwest Power Pool, Inc. (SPP) filed a corrected version of Exhibit No. SPP-3 which includes a redlined SPP RTO Membership Agreement that highlights all of the changes to the existing Membership Agreement. SPP also submitted the attached Exhibit List of all SPP exhibits includes in the October 13 filing.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at ­http://www.ferc.fed.us/efi/doorbell.htm.

David P. Boergers,
Secretary.

[FR Doc. 00-27766 Filed 10-27-00; 8:45 am]

BILLING CODE 6717-01-M